DEPARTMENT OF THE INTERIOR

National Park Service

[NPS-WASO-NAGPRA-NPS0036184; PPWOCRADN0-PCU00RP14.R50000]

Notice of Inventory Completion: Connecticut Office of State Archaeology, Connecticut State Museum of Natural History, University of Connecticut, Storrs, CT

AGENCY: National Park Service, Interior.

ACTION: Notice.

SUMMARY: In accordance with the Native American Graves Protection and Repatriation Act (NAGPRA), the Connecticut State Museum of Natural History (CSMNH) has completed an inventory of human remains and associated funerary objects and has determined that there is a cultural affiliation between the human remains and associated funerary objects and Indian Tribes or Native Hawaiian organizations in this notice. The human remains and associated funerary objects were removed from Hennepin County, MN.

DATES: Repatriation of the human remains and associated funerary objects in this notice may occur on or after August 17, 2023.

ADDRESSES: Dr. Jacqueline Veninger-Robert, University of Connecticut, 75 N. Eagleville Road, Unit 3023, Storrs, CT 06269, telephone (860) 486-6953, email jacqueline.veninger@uconn.edu.

SUPPLEMENTARY INFORMATION: This notice is published as part of the National Park Service's administrative responsibilities under NAGPRA. The determinations in this notice are the sole responsibility of the CSMNH. The National Park Service is not responsible for the determinations in this notice. Additional information on the determinations in this notice, including the results of consultation, can be found in the inventory or related records held by the CSMNH.

Description

Human remains representing, at minimum, five individuals were removed from Hennepin County, MN. In the 1880s, a resident of Colebrook, Connecticut purchased an island in Lake Minnetonka, Hennepin County, Minnesota, to construct a sporting lodge. During construction, a burial mound was disturbed, and the human remains of at least five individuals and a ceramic vessel were exhumed and brought back to Connecticut. More than 100 years later, these human remains and this ceramic vessel were given to the Colebrook Historical Society by the Colebrook resident's descendants, and in 2014, the human remains and associated funerary objects were transferred to the Connecticut Office of State Archaeology (OSA). Forensic examination conducted in 2014 determined that the fragmentary human remains belong to two adults, two juveniles, and one infant. The two associated funerary objects are one lot consisting of ceramic vessel fragments and one mineral fragment.

Cultural Affiliation

The human remains and associated funerary objects in this notice are connected to one or more identifiable earlier groups, tribes, peoples, or cultures. There is a relationship of shared group identity between the identifiable earlier groups, tribes, peoples, or cultures and one or more Indian Tribes or Native Hawaiian organizations. The following type of information was used to reasonably trace the relationship: geographical.

Determinations

Pursuant to NAGPRA and its implementing regulations, and after consultation with the appropriate Indian Tribes and Native Hawaiian organizations, the CSMNH has determined that:

• The human remains described in this notice represent the physical remains of five individuals of Native American ancestry.

• The two objects described in this notice are reasonably believed to have been placed with or near individual human remains at the time of death or later as part of the death rite or ceremony.

• There is a relationship of shared group identity that can be reasonably traced between the human remains and associated funerary objects described in this notice and the Lower Sioux Indian Community in the State of Minnesota; Prairie Island Indian Community in the State of Minnesota; Shakopee Mdewakanton Sioux Community of Minnesota; and the Upper Sioux Community, Minnesota.

Requests for Repatriation

Written requests for repatriation of the human remains and associated funerary objects in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains and associated funerary objects in this notice to a requestor may occur on or after August 17, 2023. If competing requests for repatriation are received, the CSMNH must determine the most appropriate requestor prior to repatriation. Requests for joint repatriation of the human remains and associated funerary objects are considered a single request and not competing requests. The CSMNH is responsible for sending a copy of this notice to the Indian Tribes identified in this notice.

Authority: Native American Graves Protection and Repatriation Act, 25 U.S.C. 3003, and the implementing regulations, 43 CFR 10.9, 10.10, and 10.14.

Dated: July 6, 2023.
Melanie O'Brien,
Manager, National NAGPRA Program.

[FR Doc. 2023-15101 Filed 7-17-23; 8:45 am]

BILLING CODE 4312-52-P